DEPARTMENT OF AGRICULTURE

Forest Service

Announcement of the Record of Decision for the Rosemont Copper Project

AGENCY: Forest Service, USDA.

ACTION: Notice of Announcement of a Record of Decision.

SUMMARY: The Forest Service, USDA, is issuing this notice to advise the public that the Coronado National Forest Supervisor is expected to sign the Record of Decision for the Rosemont Copper Project.

DATES: The Record of Decision is expected to be signed in early June, 2017, by the Coronado National Forest Supervisor Kerwin Dewberry.

FOR FURTHER INFORMATION CONTACT: For further information, please contact Sarah Elizabeth Baxter, Coronado National Forest, 300 W. Congress, Tucson, Arizona 85701, sbaxter@fs.fed.us, or at (520) 388-8348. Additional information concerning the Rosemont Copper Project may be obtained at the project Web site by visiting http://www.rosemonteis.us.

Individuals who use telecommunication devices for the deaf (TDD) may call the Federal Information Relay Service (FIRS) at 1-800-877-8339 between 8:00 a.m. and 8:00 p.m., Eastern Standard Time, Monday through Friday.

SUPPLEMENTARY INFORMATION: The Record of Decision (ROD) for the Rosemont Copper Project (RCP) is expected to be signed in early June, 2017 by Coronado National Forest Supervisor Kerwin Dewberry. The Rosemont Copper Project Final Environmental Impact Statement (FEIS) and draft ROD were released on December 13, 2013. The FEIS and ROD describe the decisions made with regard to the Rosemont Project to (1) select the “Barrel” alternative and approve the mine plan of operations once amended, and (2) to amend the 1986 Forest Plan by creating a new management area located around the mine site. The objection period commenced on Wednesday, January 1, 2014 and later closed on Friday, February 14, 2014. The ROD selected Alternative 4—Barrel Alternative (referred to in the ROD as the “selected action”). The proposed project will be conducted on approximately 995 acres of private land owned by Hudbay Minerals; 3,670 acres of Forest Service lands; and 75 acres of Arizona State Land Department land. The operation will produce copper, molybdenum and silver concentrates. The final ROD is available online at the project Web site: http://www.rosemonteis.us. These documents are also available for review at the Coronado National Forest in a public reading room and available to check out at local public libraries in and around Tucson, AZ (location(s) provided on the project Web site).

Dated: May 2, 2017.
Jeanne M. Higgins,
Acting Associate Deptuy Chief, National Forest System.

[FR Doc. 2017-09241 Filed 5-5-17; 8:45 am]

BILLING CODE 3411-15-P